DEPARTMENT OF THE INTERIOR

Fish and Wildlife Service

Proposed Low Effect Habitat Conservation Plan for the Schwisow Development in Adams County, ID

AGENCY: Fish and Wildlife Service, Interior.

ACTION: Notice of availability; receipt of application.

SUMMARY: This notice advises the public that Duane and Darlene Schwisow (Applicants) have applied to the Fish and Wildlife Service (Service) for an incidental take permit (ITP), pursuant to section 10(a)(1)(B) of the Endangered Species Act of 1973, as amended (Act). The requested 25-year permit would authorize the incidental take of the threatened northern Idaho ground squirrel (Spermophilus brunneus brunneus) (“squirrels”), on 13.9 square meters (150 square feet) of suitable but unoccupied habitat associated with the development of a residence in Adams County, Idaho.

We are requesting comments on the permit application and on whether the proposed Habitat Conservation Plan (HCP) qualifies as a “low effect” HCP, eligible for a categorical exclusion under the National Environmental Policy Act (NEPA) of 1969, as amended. We explain the basis for this possible determination in a draft Environmental Action Statement (EAS), which is also available for public review.

DATES: Written comments must be received by 5 p.m. on November 17, 2006.

ADDRESSES: Comments should be addressed to Jeri Wood, Biologist, Fish and Wildlife Service, Snake River Fish and Wildlife Office, 1387 Vinnell Way, Suite 368, Boise, Idaho 83709, (telephone number (208) 378-5243; fax number (208) 378-5262). For further information and instruction on the reviewing and commenting process, see Public Review and Comment section below.

FOR FURTHER INFORMATION CONTACT: Jeri Wood, at the above address, or telephone (208) 378-5243.

SUPPLEMENTARY INFORMATION:

Availability of Documents

Individuals wishing copies of the application, proposed HCP, or EAS, should contact the Service by telephone (see FOR FURTHER INFORMATION CONTACT) or by letter (see ADDRESSES). Copies of the subject documents also are available for public inspection during regular business hours at the Snake River Fish and Wildlife Office (see ADDRESSES).

Background

Section 9 of the Act (16 U.S.C. 1531 et seq.) and Federal regulations prohibit the “take” of a fish or wildlife species listed as endangered or threatened. Take of federally listed fish and wildlife is defined under section 3 of the Act as including to “harass, harm, pursue, hunt, shoot, wound, kill, trap, capture or collect, or to attempt to engage in such conduct” (16 U.S.C. 1538). The Service may, under limited circumstances, issue permits to authorize “incidental take” of listed species. “Incidental take” is defined by the Act as take that is incidental to, and not the purpose of, carrying out an otherwise lawful activity. Regulations governing permits for threatened species and endangered species, respectively, are at 50 CFR 17.32 and 50 CFR 17.22. The Applicants are seeking a permit for the incidental take of the northern Idaho ground squirrel during the 25-year term of the permit.

Applicants propose to develop and carry out construction activities on the proposed covered lands, comprising 2.0 hectares (5 acres), as a residence with a septic system, well and utility lines. Of the proposed covered area's 2.0 hectares (5 acres), approximately 1.2 hectares (3 acres) will be set aside as a Protected Area. The Protected Area is currently occupied habitat for the northern Idaho ground squirrel. Incidental take of the northern Idaho ground squirrel would be authorized for the remaining 0.81 hectare (2 acres) Project Area in unoccupied but suitable habitat for northern Idaho ground squirrels. The 0.81 hectare (2 acres) site will be developed for a 13.9 square meter (150 square feet) development pad for a residence, a septic system, underground utility lines, and well. Therefore, Applicants seek a Permit for the 0.81 hectares (2 acres) of the proposed covered area.

The proposed minimization and mitigation measures include avoidance of all ground disturbing activity in the 1.2 hectare (3 acre) Protected Area; and to mitigate for the temporary loss of suitable habitat due to the development of utility lines, a septic system and well in the 0.81-hectare (2-acre) Project Area, Applicants will replant these disturbed areas with native plants. Monitoring of the northern Idaho ground squirrel and its habitat would occur throughout the 2.0 hectares (5 acres) of proposed covered lands[w1].

Approval of the HCP may qualify as a categorical exclusion under NEPA, as provided by the Departmental Manual (516 DM 2, Appendix 1 and 516 DM 6, Appendix 1) and as a “low effect” plan as defined by the Habitat Conservation Planning Handbook (Service, 1996). Determination of low effect HCPs is based upon the plan having: minor or negligible effects on federally listed, proposed, or candidate species and their habitats; minor or negligible effects on other environmental values or resources; and, impacts that considered together with the impacts of other past, present, and reasonably foreseeable similarly situated projects would not result, over time, in cumulative effects to the environmental values or resources which would be considered significant. If the proposed Schwisow HCP is found to qualify as a low-effect HCP, further NEPA documentation would not be required.

Public Review and Comment

If you wish to comment on the permit application, draft Environmental Action Statement, or the proposed HCP, you may submit your comments to the address listed in the ADDRESSES section of this document. We will evaluate this permit application, associated documents, and comments submitted thereon to determine whether the permit application meets the requirements of section 10(a) of the Act and NEPA regulations. Individual respondents may request that we withhold their home address from the record, which we will honor to the extent allowable by law. There also may be circumstances in which we would withhold from the record a respondent's identity, as allowable by law. If you wish us to withhold your name and/or address, you must state this prominently at the beginning of your comment. Anonymous comments will not be considered. All submissions from organizations or businesses, and from individuals identifying themselves as representatives or officials of organizations or businesses, are available for public inspection in their entirety. If we determine that the requirements are met, we will issue an incidental take permit under section 10(a)(1)(B) of the Act to the Applicants for take of the squirrels, incidental to otherwise lawful activities in accordance with the terms of the permit. We will not make our final decision until after the end of the 30-day comment period and will fully consider all comments received during the comment period.

The Service provides this notice pursuant to section 10(c) of the Act and pursuant to implementing regulations for NEPA (40 CFR 1506.6).

Dated: September 11, 2006.
Jeffery L. Foss,
Field Office Supervisor, Fish and Wildlife Service, Boise, Idaho.

[FR Doc. E6-17280 Filed 10-17-06; 8:45 am]

BILLING CODE 4310-55-P